DEPARTMENT OF TRANSPORTATION

Federal Aviation Administration

Notice of Intent To Rule on Application 01-09-C-00-PHL to Impose and Use the Revenue from a Passenger Facility Charge (PFC) at Philadelphia International Airport, Philadelphia, PA

AGENCY: Federal Aviation Administration (FAA), DOT.

ACTION: Notice of intent to rule on application.

SUMMARY: The FAA proposes to rule and invites public comment on the application to impose and use the revenue from a PFC at Philadelphia International Airport under the provisions of the Aviation Safety and Capacity Expansion Act of 1990 (Title IX of the Omnibus Budget Reconciliation Act of 1990) (Pub. L. 101-508) and Part 158 of the Federal Aviation Regulations (14 CFR Part 158).

DATES: Comments must be received on or before January 25, 2001.

ADDRESSES: Comments on this application may be mailed or delivered in triplicate to the FAA at the following address: Ms. Roxane Wren, Harrisburg Airports District Office, 3911 Hartzdale Drive, Suite 1100, Camp Hill, PA 17011.

In addition, one copy of any comments submitted to the FAA must be mailed or delivered to Mr. Charles J. Isdell, Jr., Acting Director of Aviation of the City of Philadelphia at the following address: Philadelphia International Airport, Division of Aviation, Terminal E, Philadelphia, PA 19153.

Air carriers and foreign air carriers may submit copies of written comments previously provided to the City of Philadelphia under § 158.23 of Part 158.

FOR FURTHER INFORMATION CONTACT: Roxane Wren, Program Specialist, Airports District Office, 3911 Hartzdale Drive, Suite 1100, Camp Hill, PA 17011, 717-730-2830. The application may be reviewed in person at this same location.

SUPPLEMENTARY INFORMATION: The FAA proposes to rule and invites public comment on the application to impose and use the revenue from a PFC at Philadelphia International Airport under the provisions of the Aviation Safety and Capacity Expansion Act of 1990 (Title IX of the Omnibus Budget Reconciliation Act of 1990) (Pub. L. 101-508) and Part 158 of the Federal Aviation Regulations (14 CFR Part 158).

On November 15, 2000, the FAA determined that the application to impose and use the revenue from a PFC submitted by City of Philadelphia was substantially complete within the requirements of § 158.25 of Part 158. The FAA will approve or disapprove the application, in whole or in part, no later than February 15, 2001.

The following is a brief overview of the application.

PFC Application No.: 01-09-C-00-PHL.

Level of the proposed PFC: $3.00.

Proposed charge effective date: February 1, 2011.

Proposed charge expiration date: October 1, 2011.

Total estimated PFC revenue: $22,250,000.00.

Brief description of proposed project(s):

—Firefighting Training Facility

—Terminal D Expansion

—Moving Sidewalks between Terminals C and D

Class of classes of air carriers which the public agency has requested not be required to collect PFCs:

Air Taxi/Commercial Operators

Any person may inspect the application in person at the FAA office listed above under FOR FURTHER INFORMATION CONTACT and at the FAA regional airports office located at: Fitzgerald Federal Building #111, Airports Division, AEA-610, John F. Kennedy International Airport, Jamaica, New York, 11430.

In addition, any person may, upon request, inspect the application, notice and other documents germane to the application in person at the City of Philadelphia.

Issued in Camp Hill, PA on November 29, 2000.
Sharon, A. Daboin,
Manager, Harrisburg ADO, Eastern Region.

[FR Doc. 00-32731 Filed 12-22-00; 8:45 am]

BILLING CODE 4910-13-M